DEPARTMENT OF TRANSPORTATION

Federal Aviation Administration

Public Notice for Waiver of Aeronautical Land-Use Assurance Rickenbacker International Airport Columbus, OH

AGENCY: Federal Aviation Administration, DOT.

ACTION: Notice of intent of waiver with respect to land.

SUMMARY: The Federal Aviation Administration (FAA) is considering a proposal to change a portion of the airport designated aeronautical use to non-aeronautical use and to authorize the release of 0.08 acres of airport property for sale to Air East Business Park, Ltd. The land consists of a parcel formerly used as the southern middle marker site for the instrument landing system (ILS) approach to Runway 23L. The parcel is 60′ x 60′ (3600 SF) and was acquired by the Rickenbacker Port Authority through a Quitclaim Deed dated May 11, 1999 and Deed of Correction dated April 25, 2001 from the United States of America. There are no impacts to the airport by allowing the airport to dispose of the property. There are no longer facilities located on this parcel and it is currently being used for agricultural purposes. Approval does not constitute a commitment by the FAA to financially assist in the disposal of the subject airport property nor a determination of eligibility for grant-in-aid funding from the FAA. In accordance with section 47107(h) of title 49, United States Code, this notice is required to be published in the Federal Register 30 days before modifying the land-use assurance that requires the property to be used for an aeronautical purpose.

DATES: Comments must be received on or before January 30, 2006.

FOR FURTHER INFORMATION CONTACT: Mary W. Jagiello, Program Manager, Federal Aviation Administration, Great Lakes Region, Detroit Airports District Office, DET ADO-608, 11677 South Wayne Road, Suite 107, Romulus, Michigan 48174. Telephone Number (734-229-2956)/FAX Number (734-229-2950). Documents reflecting this FAA action may be reviewed at this same location or at Rickenbacker International Airport, Columbus, Ohio.

SUPPLEMENTARY INFORMATION: Following is a legal description of the property located in Columbus, Franklin County, Ohio, and described as follows:

Beginning for reference at a Franklin County Monument #0037 found at the intersection of the centerlines of Hayes Road and Pontius Road;

Thence N 02°31′16″ W, a distance of 505.98 feet along the center of Pontius Road to a Franklin County Monument Number 0018 found at an angle point;

Thence N 04°10′29″ E, a distance of 575.69 feet, continuing along the centerline of Pontius Road to a point;

Thence N 85°49′31″ E, a distance of 189.27 feet, leaving said centerline, to the point of true beginning;

Thence N 05°17′57″ W, a distance of 60.00 feet, along a chain link fence, to a point;

Thence N 84°42′03″ E, a distance of 60.00 feet, along a chain link fence to a point;

Thence S 05°17′57″ E, a distance of 60.00 feet, along a chain link fence to a point;

Thence S 84°42′03″ W, a distance of 60.00 feet, along a chain link fence to the point of true beginning containing 3,600 square feet, more or less, and being subject to all easements and restrictions of record.

Bearings are based on the grid bearing of S 86°13′48″ E, as determined by field measurement between Franklin County Engineer's Monument Numbers 9958 and 9962.

Issued in Romulus, Michigan on November 21, 2005.
Irene Porter,
Manager, Detroit Airports District Office, FAA, Great Lakes Region.

[FR Doc. 05-24665 Filed 12-29-05; 8:45 am]

BILLING CODE 4910-13-M